DEPARTMENT OF HOMELAND SECURITY

Bureau of Customs and Border Protection

19 CFR Part 101

[DHS-2005-0004]

Closing of the Port of Noyes, Minnesota, and Extension of the Limits of the Port of Pembina, ND

AGENCY: Customs and Border Protection; Department of Homeland Security.

ACTION: Notice of proposed rulemaking.

SUMMARY: This document proposes to close the port of entry of Noyes, Minnesota, and extend the limits of the port of entry of Pembina, North Dakota, to include the rail facilities located at Noyes. The proposed closure and extension are the result of the closure by the Canadian Customs and Revenue Agency of the Port of Emerson, Manitoba, Canada, which is located north of the Port of Noyes, and the close proximity of the Port of Noyes to the Port of Pembina.

DATES: Comments must be received on or before October 11, 2005.

ADDRESSES: Comments, identified by docket number DHS-2005-0004, may be submitted by one of the following methods:

EPA Federal Partner EDOCKET Web site: http://www.epa.gov/feddocket. Follow instructions for submitting comments on the Web site.

Federal eRulemaking Portal: http://www.regulations.gov. Follow the instructions for submitting comments.

Mail: Comments by mail are to be addressed to the Bureau of Customs and Border Protection, Office of Regulations and Rulings, Regulations Branch, 1300 Pennsylvania Avenue, NW. (Mint Annex), Washington, DC 20229. Submitted comments by mail may be inspected at the Bureau of Customs and Border Protection at 799 9th Street, NW., Washington, DC. To inspect comments, please call (202) 572-8768 to arrange for an appointment.

Instructions: All submissions received must include the agency name and docket number or Regulatory Information Number (RIN) for this rulemaking. All comments received will be posted without change to http://www.epa.gov/feddocket, including any personal information provided.

FOR FURTHER INFORMATION CONTACT: Dennis Dore, Office of Field Operations, (202) 344-2776.

SUPPLEMENTARY INFORMATION:

Background

Closing of Port of Noyes

Customs ports of entry are locations where Customs and Border Protection (CBP) officers and employees are assigned to accept entries of merchandise, clear passengers, collect duties, and enforce the various provisions of customs, border protection, and related laws. The list of designated CBP ports of entry is set forth in 19 CFR 101.3(b)(1).

As part of a continuing program to utilize more efficiently its personnel, facilities, and resources, and to provide better service to carriers, importers, and the public, CBP is proposing to close the Port of Noyes, Minnesota, and extend the limits of the Port of Pembina, North Dakota, to include the rail facilities located at Noyes. On June 8, 2003, the Canadian Customs and Revenue Agency closed the East Port of Emerson, Manitoba, Canada, which is located north of the Port of Noyes. The factors influencing their decision to close the Port of Emerson included the age of the facility, the close proximity of a port at Emerson West, declining workload, and resource considerations.

The Port of Noyes, which is located two miles from the CBP Port of Pembina, processes on average three trucks, 50 vehicles, 154 passengers and three trains per day. CBP is proposing for the Port of Pembina to assume responsibility for processing this workload. If the Port of Noyes is closed, a CBP inspector from the Port of Pembina will continue to process the workload associated with trains as they arrive at Noyes. Other traffic will utilize the Port of Pembina. The Port of Noyes is currently staffed with one full-time CBP inspector and supports the facility needs of seven Border Patrol agents and three Immigration and Customs Enforcement (ICE) agents. CBP is proposing that the office facility continue to be used to support the needs of those agents once the port has been closed. Security gates and surveillance cameras have also been installed at the Port of Noyes to ensure continued remote monitoring of that location by the Port of Pembina.

Extension of Port of Pembina Limits

CBP is proposing to extend the limits of the Port of Pembina to encompass the railroad yard located at Noyes, Minnesota, owned by the Canadian Pacific Railway and the Burlington Northern Santa Fe Railway. As mentioned above, CBP is proposing to continue to process the workload associated with trains as they arrive at Noyes.

Proposed Amendments to CBP Regulations

If the proposed closure of the Port of Noyes and extension of the Port of Pembina are adopted, CBP will amend 19 CFR 101.3(b)(1) to reflect these changes.

Authority

These changes are proposed pursuant to 5 U.S.C. 301 and 19 U.S.C. 2, 66 and 1624, and the Homeland Security Act of 2002, Pub. L. 107-296 (November 25, 2002).

Congressional Notification

On September 15, 2003, the Commissioner of CBP notified Congress of CBP's intention to close the Port of Noyes, Minnesota, fulfilling the congressional notification requirements of 19 U.S.C. 2075(g)(2) and section 417 of the Homeland Security Act (6 U.S.C. 217).

Executive Order 12866 and the Regulatory Flexibility Act

With DHS approval, CBP establishes, expands and consolidates CBP ports of entry throughout the United States to accommodate the volume of CBP-related activity in various parts of the country. The Office of Management and Budget has determined that this regulatory proposal is not a significant regulatory action as defined under Executive Order 12866. This proposed rule also will not have significant economic impact on a substantial number of small entities. Accordingly, it is certified that this document is not subject to the additional requirements of the provisions of the Regulatory Flexibility Act (5 U.S.C. 601 et seq).

Signing Authority

The signing authority for this document falls under 19 CFR 0.2(a) because this port closure and port limit extension are not within the bounds of those regulations for which the Secretary of the Treasury has retained sole authority. Accordingly, the notice of proposed rulemaking may be signed by the Secretary of Homeland Security (or his or her delegate).

Comments

Before adopting this proposed regulation as a final rule, consideration will be given to any written comments timely submitted to CBP. Comments submitted will be available for public inspection in accordance with the Freedom of Information Act (5 U.S.C. 552) and 19 CFR 103.11(b) on normal business days between the hours of 9 a.m. and 4:30 p.m. at the Regulations Branch, Office of Regulations and Rulings, Bureau of Customs and Border Protection, 799 9th Street, NW., 5th Floor, Washington, DC. Arrangements to inspect submitted comments should be made in advance by calling Mr. Joseph Clark at (202) 572-8768.

Dated: March 24, 2005.
Robert C. Bonner,
Commissioner, Customs and Border Protection.
Dated: August 4, 2005.
Michael Chertoff,
Secretary.

[FR Doc. 05-16008 Filed 8-11-05; 8:45 am]

BILLING CODE 4820-02-P